FEDERAL COMMUNICATIONS COMMISSION

47 CFR Part 20

[WT Docket No. 10-4; FCC 18-35]

Improvement of Wireless Coverage Through the Use of Signal Boosters

AGENCY: Federal Communications Commission.

ACTION: Final rule.

SUMMARY: In this document, the Federal Communications Commission takes further steps to expand access to signal boosters by removing the personal use restriction on Provider-Specific Consumer Signal Boosters, thereby allowing small businesses, public safety entities, and other organizations to take advantage of the signal boosters' benefits. Specifically, whereas the existing rules restricted Provider-Specific Consumer Signal Boosters to personal use, the Commission will now permit any subscriber—an individual or a non-individual—with a proper registration to use these boosters. This approach will have cognizable public interest benefits by permitting more entities to take advantage of the recognized benefits of Provider-Specific Consumer Signal Boosters.

DATES: Effective May 18, 2018.

FOR FURTHER INFORMATION CONTACT: Amanda Huetinck at Amanda.huetinck@fcc.gov, of the Wireless Telecommunications Bureau, Mobility Division, (202) 418-7090.

SUPPLEMENTARY INFORMATION: This is a summary of the Commission's Second Report and Order (Second Report and Order) in WT Docket No. 10-4, FCC 18-35, released on March 23, 2018. The complete text of the Second Report and Order, including all Appendices, is available for inspection and copying during normal business hours in the FCC Reference Center, 445 12th Street SW, Room CY-A157, Washington, DC 20554, or by downloading the text from the Commission's website at https://apps.fcc.gov/edocs_public/attachmatch/FCC-18-35A1.pdf.

Alternative formats are available for people with disabilities (Braille, large print, electronic files, audio format), by sending an email to FCC504@fcc.gov or calling the Consumer and Government Affairs Bureau at (202) 418-0530 (voice), (202) 418-0432 (TTY).

The Commission will send a copy of the Second Report and Order in a report to be sent to Congress and the Government Accountability Office pursuant to the Congressional Review Act, see 5 U.S.C. 801(a)(1)(A).

I. Second Report and Order

1. The Commission's Consumer Signal Booster rules, adopted in a 2013 Report and Order (WT Docket No. 10-4) (Report and Order), 78 FR 21555, Apr. 11, 2013, appear to have achieved the Commission's goals of expanding Americans' access to well-designed boosters that do not harm wireless providers' networks. The rules adopted in the Report and Order, however, were conservatively designed and tailored to meet the needs of individual consumers. Given the record developed in the proceeding, the Commission finds that it can expand the availability of Consumer Signal Boosters without creating a risk of unacceptable interference. Accordingly, in its Second Report and Order, the Commission further expands access to signal boosters by eliminating a restriction on their use that the Commission now finds unnecessary. Specifically, based on the record before it, the Commission removes the personal use restriction on the operation of Provider-Specific Consumer Signal Boosters so that small businesses, public safety entities, and other organizations also may take full advantage of these boosters to improve their access to quality wireless coverage. In an accompanying Second Further Notice of Proposed Rulemaking, published elsewhere in this issue of the Federal Register, the Commission proposes to remove the personal use restriction for Wideband Consumer Signal Boosters as well.

2. The Commission in the Report and Order required that prior to operating a Consumer Signal Booster, the subscriber, inter alia, must (1) obtain the consent of the licensee providing service to the subscriber, and (2) register the booster with the licensee providing service to the subscriber. These requirements help ensure that wireless providers retain sufficient control over signal boosters to avoid a violation of Section 310(d) of the Communications Act and are key components to the success of the Consumer Signal Booster regulatory regime. Coupled with § 20.21(e)'s Network Protection Standard (NPS), these requirements have ensured that signal boosters are effective at improving signal coverage without causing harmful interference to wireless networks.

3. The Commission originally included the personal use restriction on Consumer Signal Booster operation and use in the expectation that it would help support a streamlined process for meeting the consent and registration requirements. In particular, by restricting operation to the subscriber's personal use, the Commission ensured that consumers need only obtain consent from and register their devices with the wireless provider to which they subscribe. For example, if a subscriber plans to use his booster with only his own provider for his own personal use, he would need only register with that provider. Or, if he and a housemate plan to use the same booster with two different wireless providers (his provider and the housemate's different provider), each would need to register with his own provider.

4. In a Further Notice of Proposed Rulemaking released on September 23, 2014 (WT Docket No. 10-4) (Further NPRM), 79 FR 70837, Nov. 28, 2014, the Commission explained that, because a Provider-Specific Consumer Signal Booster operates only on a single wireless provider's spectrum, once the subscriber has obtained provider consent to use the signal booster, any transmission from the signal booster would be authorized. The Commission therefore questioned whether the personal use restriction remains necessary for Provider-Specific Consumer Signal Boosters. The Further NPRM specifically asked whether the Commission should eliminate the personal use restriction for Provider-Specific Consumer Signal Boosters, and it sought comment on several related questions. Commenters responding to the Further NPRM overwhelmingly supported elimination of the personal use restriction for Provider-Specific Consumer Signal Boosters.

5. As described below, the Commission finds that the personal use restriction on Provider-Specific Consumer Signal Boosters is unnecessary and that removing it is in the public interest. The Commission therefore amends § 20.21 to remove this restriction. The action the Commission takes will expand access to signal boosters for small businesses, public safety entities using subscriber-based services in support of their operations, and other organizations, furthering the goals the Commission first set out to achieve in the Report and Order. When these rule changes take effect, once a subscriber—whether an individual or a non-individual—properly registers its Provider-Specific Consumer Signal Booster with its provider, anyone who subscribes to that provider also may use the device. For example, if a small business owner registers her Provider-Specific Consumer Signal Booster with and receives the consent of her wireless provider, any employees or customers who subscribe to that same provider would then be free to use that booster without registering. The Commission reiterates that the registering subscriber is an “operator” under its rules and as such must adhere to the requirements of its rules.

6. In adopting this change, the Commission concludes that the personal use restriction on Provider-Specific Consumer Signal Boosters is not needed to prevent unauthorized operation of these boosters or to ensure compliance with its signal booster rules. As stated in the Further NPRM and explained above, the fact that a subscriber must register his Provider-Specific Consumer Signal Booster with his provider renders the personal use restriction unnecessarily restrictive. As Nextivity points out, “[a]s required by the Commission's rules and implemented in the equipment certification process, Provider-Specific Consumer Signal Boosters can only be used with an appropriate carrier registration and therefore the carrier always retains control over the Provider-Specific Consumer Signal Booster. . . . In no instance can a Provider-Specific Consumer Signal Booster be used to operate on spectrum without the carrier's consent.”

7. In addition to concluding that the personal use restriction on Provider-Specific Consumer Signal Boosters is unnecessary, the Commission also finds that modifying its rules as described in its Second Report and Order will affirmatively further the public interest. As T-Mobile explains, “[t]here are numerous practical considerations that favor the use of a provider-specific consumer booster in a non-personal use setting. For example, a small business may need to install a booster to improve signal strength within its office.” The inclusion of the personal use restriction on Provider-Specific Consumer Signal Boosters, however, prevents such use and blocks whole segments of the public—e.g., small businesses, institutions of higher education, office parks, factories, warehouses, and government buildings—from taking advantage of the boosters' benefits. As T-Mobile also notes, “[t]he only options available to such [small businesses and others] would be to deploy an industrial signal booster, switch carriers, or continue to endure indoor coverage issues.” The Commission also agrees with Nextivity that retaining the restriction on Provider-Specific Consumer Signal Boosters “denies a significant segment of the American business sector from fully participating in the nation's wireless transformation. Further, the prohibition disproportionality penalizes small business users in rural and edge areas and dense indoor urban environments where wireless coverage often is especially challenged.”

8. Accordingly, based on the record before it, the Commission eliminates the personal use restriction on Provider-Specific Consumer Signal Boosters. Not only is this restriction unnecessary, but its removal will have cognizable public interest benefits by permitting more entities to take advantage of the recognized benefits of Provider-Specific Consumer Signal Boosters.

II. Procedural Matters

A. Paperwork Reduction Act Certification

9. The Second Report and Order does not contain new or modified information collection requirements subject to the Paperwork Reduction Act of 1995 (PRA), Public Law 104-13. In addition, the Second Report and Order does not contain any new or modified information collection burdens for small business concerns with fewer than 25 employees, pursuant to the Small Business Paperwork Relief Act of 2002, Public Law 107-198, see 44 U.S.C. 3506(c)(4). The Final Regulatory Flexibility Certification (FRFC) is in Appendix C of the Second Report and Order.

B. Congressional Review Act

10. The Commission will send a copy of the Second Report and Order to Congress and the Government Accountability Office pursuant to the Congressional Review Act. In addition, the Commission will send a copy of the Second Report and Order, including the FRFA, to the Chief Counsel for Advocacy of the SBA (5 U.S.C. 603(a)).

C. Final Regulatory Flexibility Analysis

11. The Regulatory Flexibility Act of 1980 (RFA) requires that an agency prepare a regulatory flexibility analysis for notice and comment rulemakings, unless the agency certifies that “the rule will not, if promulgated, have a significant economic impact on a substantial number of small entities.” Accordingly, the Commission has prepared a FRFC, set forth in Appendix C of the Second Report and Order, concerning the possible impact of the rule changes.

D. Ex Parte Presentations

12. This proceeding shall continue to be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the Commission's Electronic Comment Filing System (ECFS) available for that proceeding, and must be filed in their native format (e.g., .doc, .xml, .ppt, searchable .pdf). Participants in this proceeding should familiarize themselves with the Commission's ex parte rules.

13. People with Disabilities. To request materials in accessible formats for people with disabilities (braille, large print, electronic files, audio format), send an email to fcc504@fcc.gov or call the Consumer & Governmental Affairs Bureau at 202-418-0530 (voice), 202-418-0432 (tty).

III. Ordering Clauses

14. Accordingly, it is ordered, pursuant to Sections 1, 4(i), 4(j), 7, 301, 302, and 303 of the Communications Act of 1934, as amended, 47 U.S.C. 151, 154(i), 154(j), 157, 301, 302, and 303, that the Second Report and Order in WT Docket No. 10-4 is adopted.

15. It is further ordered that part 20 of the Commission's rules, 47 CFR part 20, is amended as specified in Appendix A of the Second Report and Order.

16. It is further ordered that the adopted rules will become effective 30 days after the date of publication in the Federal Register.

17. It is further ordered that, pursuant to Section 801(a)(1)(A) of the Congressional Review Act, 5 U.S.C. 801(a)(1)(A), the Commission shall send a copy of the Second Report and Order to Congress and to the Government Accountability Office.

18. It is further ordered that the Commission's Consumer and Governmental Affairs Bureau, Reference Information Center, shall send a copy of the Second Report and Order, including the Final Regulatory Flexibility Certification, to the Chief Counsel for Advocacy of the Small Business Administration.

List of Subjects in 47 CFR Part 20

Communications common carriers, Communications equipment, Radio.

Federal Communications Commission.
Katura Jackson,
Federal Register Liaison Officer, Office of the Secretary.

Final Rules

For the reasons discussed in the preamble, the Federal Communications Commission amends 47 CFR part 20 as follows:

PART 20—COMMERCIAL MOBILE SERVICES

1. The authority citation for part 20 continues to read as follows:

Authority: 47 U.S.C. 151, 152(a) 154(i), 157, 160, 201, 214, 222, 251(e), 301, 302, 303, 303(b), 303(r), 307, 307(a), 309, 309(j)(3), 316, 316(a), 332, 610, 615, 615a, 615b, 615c, unless otherwise noted.

2. Amend § 20.3 by revising the definition of Consumer Signal Booster to read as follows:

§ 20.3 Definitions.

* * * * *

Consumer Signal Booster. A bi-directional signal booster that is marketed and sold for use without modification.

* * * * *

3. Amend § 20.21 by:

a. Revising paragraph (a) introductory text;

b. Removing “and” from the end of paragraph (a)(5);

c. Removing the period at the end of paragraph (a)(6) and adding “; and” in its place;

d. Adding paragraph (a)(7); and

e. Revising paragraph (g).

The revisions and addition read as follows:

§ 20.21 Signal boosters.

(a) Operation of Consumer Signal Boosters. A subscriber in good standing of a commercial mobile radio service system may operate a Consumer Signal Booster under the authorization held by the licensee providing service to the subscriber provided that the subscriber complies with paragraphs (a)(1) through (7) of this section. Failure to comply with all applicable rules in this section and all applicable technical rules for the frequency band(s) of operation voids the authority to operate the Consumer Signal Booster.

* * * * *

(7) If operating a Wideband Consumer Signal Booster, the subscriber operates it only for personal use.

* * * * *

(g) Marketing and sale of signal boosters. Except as provided in § 2.803 of this chapter, no person, manufacturer, distributor, or retailer may market (as defined in § 2.803 of this chapter) any Consumer Signal Booster that does not comply with the requirements of this section to any person in the United States or to any person intending to operate the Consumer Signal Booster within the United States. Wideband Consumer Signal Boosters may only be sold to members of the general public for their personal use.

* * * * *

[FR Doc. 2018-08031 Filed 4-17-18; 8:45 am]

BILLING CODE 6712-01-P